DEPARTMENT OF TRANSPORTATION

Federal Aviation Administration

14 CFR Part 39

[Docket No. FAA-2019-0518; Product Identifier 2019-NM-062-AD]

RIN 2120-AA64

Airworthiness Directives; The Boeing Company Airplanes

AGENCY: Federal Aviation Administration (FAA), DOT.

ACTION: Proposed rule; withdrawal.

SUMMARY: The FAA is withdrawing a notice of proposed rulemaking (NPRM) that proposed to adopt a new airworthiness directive (AD) that would have applied to certain The Boeing Company Model 787-8 and 787-9 airplanes. The NPRM was prompted by a report that a passenger entry door assist handle became detached during use. The NPRM would have required a detailed inspection of all passenger and service entry door assist handles for correct installation and applicable on-condition actions. Since issuance of the NPRM, we determined that the service information is ineffective in addressing the unsafe condition and must be revised. Accordingly, the NPRM is withdrawn.

DATES: The FAA is withdrawing the proposed rule published July 15, 2019 (84 FR 33710), as of March 30, 2020.

ADDRESSES:

Examining the AD Docket

You may examine the AD docket on the internet at https://www.regulations.gov by searching for and locating Docket No. FAA-2019-0518; or in person at Docket Operations between 9 a.m. and 5 p.m., Monday through Friday, except Federal holidays. The AD docket contains this AD action, the regulatory evaluation, any comments received, and other information. The street address for Docket Operations is U.S. Department of Transportation, Docket Operations, M-30, West Building Ground Floor, Room W12-140, 1200 New Jersey Avenue SE, Washington, DC 20590.

FOR FURTHER INFORMATION CONTACT: Brandon Lucero, Aerospace Engineer, Cabin Safety and Environmental Systems Section, FAA, Seattle ACO Branch, 2200 South 216th St., Des Moines, WA 98198; phone and fax: 206-231-3569; email: brandon.lucero@faa.gov.

SUPPLEMENTARY INFORMATION:

Discussion

The FAA issued an NPRM that proposed to amend 14 CFR part 39 by adding an AD that would apply to the specified products. The NPRM was published in the Federal Register on July 15, 2019 (84 FR 33710). The NPRM was prompted by a report that a passenger entry door assist handle became detached during use. An investigation found that incorrect installation of the door assist handle is possible due to the handle insert giving a false indication of correct installation.

The NPRM proposed to require a detailed inspection of all passenger and service entry door assist handles for correct installation and applicable on-condition actions. The proposed actions were intended to address the possibility of an incorrectly installed door assist handle becoming detached and unavailable to use during door operation or airplane egress, which could cause injury to passengers, flightcrew, or maintenance personnel.

Actions Since the NPRM Was Issued

Since issuance of the NPRM, Boeing has informed the FAA that the root cause determination has changed. The unsafe condition still exists but the proposed service information is ineffective in correcting it, therefore it is necessary to completely revise the service information to address the root cause.

Withdrawal of the NPRM constitutes only such action and does not preclude the FAA from further rulemaking on this issue, nor does it commit the FAA to any course of action in the future.

FAA's Conclusions

Upon further consideration, the FAA has determined that the NPRM does not adequately address the identified unsafe condition. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2019-0518, which was published in the Federal Register on July 15, 2019 (84 FR 33710), is withdrawn.

Issued on March 24, 2020.
Gaetano A. Sciortino,
Deputy Director for Strategic Initiatives, Compliance & Airworthiness Division, Aircraft Certification Service.

[FR Doc. 2020-06503 Filed 3-27-20; 8:45 am]

BILLING CODE 4910-13-P